DEPARTMENT OF ENERGY

Federal Energy Regulatory Commission

[Project No. 190-105]

Moon Lake Electric Association, Inc.; Notice of Application Tendered for Filing With the Commission and Soliciting Additional Study Requests and Establishing Procedural Schedule for Relicensing and a Deadline for Submission of Final Amendments

Take notice that the following hydroelectric application has been filed with the Commission and is available for public inspection.

a. Type of Application: Minor, new license.

b. Project No.: P-190-105.

c. Date Filed: January 31, 2017.

d. Applicant: Moon Lake Electric Association, Inc.

e. Name of Project: Uintah Hydroelectric Project.

f. Location: The project is located near the Town of Neola, Duchesne County, Utah and diverts water from primarily the Uintah River as well as Big Springs Creek and Pole Creek. The project is located almost entirely on federal lands managed by Ashley National Forest and Ute Indian Reservation.

g. Filed Pursuant to: Federal Power Act 16 U.S.C. 791(a)-825(r).

h. Applicant Contact: M. Jared Griffiths, Engineering Manager, Moon Lake Electric Association, Inc., 800 West U.S. Hwy 40, Roosevelt, Utah 84066.

i. FERC Contact: Quinn Emmering, (202) 502-6382, quinn.emmering@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 3, 2017.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-190-105.

m. The application is not ready for environmental analysis at this time.

n. The Uintah Hydroelectric project operates as a run-of-river facility delivering water to the project facilities from three sources: the Uintah River, Big Springs Creek, and Pole Creek. The existing project facilities include: (1) An 8-foot-wide, 4-foot-deep, 1,100-foot-long canal that delivers water from Big Springs Creek; (2) a concrete diversion structure on the Big Springs Creek canal which conveys flow through a 916-foot-long, 28-inch diameter, steel pipeline that connects to the point of diversion on the Uintah River; (3) an 80-foot-long, 4-foot-wide, 3-foot-high overflow-type concrete diversion structure with a 10-foot-high, 6.5-foot-wide steel slide gate on the Uintah River; (4) a 16-foot-wide, 8-foot-deep, 25,614-foot-long, main supply canal which conveys water from Big Springs Creek and the Uintah River; (5) a stop-log diversion structure which diverts water from Pole Creek; (6) a 6-foot-wide, 4-foot-deep, 6,200-foot-long supply canal which collects water from the Pole Creek diversion; (7) an 86-inch-wide, 80-inch-long, 43-inch-high transition bay and a 140-foot-long, 14-inch diameter steel penstock collects water from the Pole Creek supply canal; (8) a 23-foot by 13-foot concrete forebay structure containing trashracks, an overflow channel, and a headgate that is located at the termination of the main supply canal and the Pole Creek penstock; (9) a single 5,238-foot-long, 36-inch diameter polyurethane and steel penstock which delivers water to a concrete powerhouse with two Pelton turbines driving two 600-kilowatt generators; (10) a 600-foot-long tailrace; (11) a 4.75-mile-long, 24.9-kilovolt single wood pole distribution line; and (12) appurtenant facilities. The estimated average annual generation is about 6,073 megawatt-hours. The licensee proposes to modify the project boundary to account for an update to the project transmission line that reduced its total length from 8.5 miles to 4.75 miles. The licensee proposes no operational changes or new project facilities at this time.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

q. Procedural schedule and final amendments: The application will be processed according to the following preliminary Hydro Licensing Schedule. Revisions to the schedule will be made as appropriate.

Issue Notice of Acceptance—April 2017

Request Additional Information (if necessary)—April 2017

Issue Acceptance Letter—July 2017

Issue Scoping Document 1 for comments—August 2017

Request Additional Information (if necessary)—October 2017

Issue Scoping Document 2—November 2017

Issue notice of ready for environmental analysis—November 2017

Commission issues EA, draft EA, or draft EIS—May 2018

Comments on EA or draft EA or draft EIS—June 2018

Commission issues final EA of final EIS—August 2018

Final amendments to the application must be filed with the Commission no later than 30 days from the issuance date of the notice of ready for environmental analysis.

Dated: February 14, 2017.
Kimberly D. Bose,
Secretary.

[FR Doc. 2017-03325 Filed 2-17-17; 8:45 am]

BILLING CODE 6717-01-P